DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps (NACNHSC).

Dates and Times: August 27-28, 2015, 8:00 a.m.-4:30 p.m. EST.

Place: U.S. Department of Health and Human Services, Health Resources and Services Administration, Parklawn Building, Conference Room #18-67, 5600 Fishers Lane, Rockville, Maryland 20857, In-Person meeting and Conference Call Format.

Status: This advisory council meeting will be open to the public.

Purpose: The NACNHSC provides advice and recommendations to the Secretary of the U.S. Department of Health and Human Services and, by designation, the Administrator of the Health Resources and Services Administration on a range of issues including identifying the priorities for the NHSC, and policy revisions.

Agenda: The NACNHSC will welcome its new members and begin with a New Member Orientation and Ethics Overview. The tentative agenda includes discussions on (a) State's Approach to Medicaid Expansion and how it affects the NHSC, (b) the supply and practice patterns of mental and behavior health, and (c) how to improve the work life for health care providers and staff. The NACNHAC final agenda will be available on the NACNHSC Web site 3 days in advance of the meeting.

SUPPLEMENTARY INFORMATION: Further information regarding the NACNHSC including the roster of members, past meetings summaries is available at the following Web site: http://nhsc.hrsa.gov/corpsexperience/aboutus/nationaladvisorycouncil/index.html.

Members of the public and interested parties may request to participate in the meeting by contacting Ashley Carothers via email at ACarothers@hrsa.gov to obtain access information. Access will be granted on a first come, first-served basis. Space is limited. Public participants may submit written statements in advance of the scheduled meeting. If you would like to provide oral public comment during the meeting, please register with the designated federal official (DFO), CAPT Shari Campbell. Public comment will be limited to 3 minutes per speaker. Statements and comments can be addressed to the DFO, CAPT Shari Campbell by emailing her at SCampbell@hrsa.gov.

In addition, please be advised that committee members are given copies of all written statements submitted from the public. Any further public participation will be solely at the discretion of the Chair, with approval of the DFO. Registration through the designated contact for the public comment session is required.

FOR FURTHER INFORMATION CONTACT: Anyone requesting information regarding the NACNHSC should contact CAPT Shari Campbell, Designated Federal Official, Bureau of Health Workforce, Health Resources and Services Administration, in one of three ways: (1) Send a request to the following address: CAPT Shari Campbell, Designated Federal Official, Bureau of Health Workforce, Health Resources and Services Administration, Parklawn Building, Room 8C-26, 5600 Fishers Lane, Rockville, Maryland 20857; (2) call (301) 594-4251; or (3) send an email to scampbell@hrsa.gov.

Jackie Painter,
Director, Division of the Executive Secretariat.

[FR Doc. 2015-19652 Filed 8-10-15; 8:45 am]

BILLING CODE 4165-15-P